FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Reporting, Recordkeeping, and Disclosure Requirements Associated with Regulation Q (FR Q; OMB No. 7100-0313).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Reporting, Recordkeeping, and Disclosure Requirements Associated with Regulation Q.

Collection identifier: FR Q.

OMB control number: 7100-0313.

Effective Date: The revisions are applicable as of March 1, 2023.

General description of collection: The Board's Regulation Q—Capital Adequacy of Bank Holding Companies, Savings and Loan Holding Companies, and State Member Banks (12 CFR part 217) sets forth the capital adequacy requirements for state member banks (SMBs), certain bank holding companies (BHCs), U.S. intermediate holding companies (IHCs), and certain covered savings and loan holding companies (SLHCs).¹

¹ The Board's capital rule generally does not apply to BHCs or covered SLHCs that meet the requirements of the Small Bank Holding Company and Savings and Loan Holding Company Policy Statement, 12 CFR part 225, Appendix C. For the definition of “Covered savings and loan holding company,” see 12 CFR 217.2.

The reporting, recordkeeping, and disclosure requirements included in the FR Q information collection provide the Board and other stakeholders, including market participants, with information regarding the interaction between firms and the regulatory capital framework. Specifically, the reporting and recordkeeping requirements allow the Board to verify that firms are appropriately implementing the capital framework; they also provide the Board with information necessary for monitoring firms participating in the advanced approaches framework. The disclosure requirements are intended to support market discipline by providing information regarding banking organizations' activities, overall risk profiles, and risk management policies. Together, these requirements help to ensure the safety and soundness of the financial system by facilitating the identification of problems at firms and ensuring that firms have implemented any corrective actions imposed by the Board, as well as by allowing stakeholders to make meaningful assessments of firms' financial position.

Frequency: Annual, quarterly.

Respondents: SMBs, certain BHCs, IHCs, and certain covered SLHCs.

Total estimated number of respondents:

Minimum Capital Ratios

Recordkeeping (Ongoing)—1,055.

Standardized Approach

Reporting (Ongoing)—1.

Recordkeeping (Initial Setup)—1.

Recordkeeping (Ongoing)—1,055.

Disclosure (Initial Setup)—1.

Disclosure (Ongoing)—38.

Advanced Approach

Reporting (Initial Setup)—1.

Reporting (Ongoing)—21.

Recordkeeping (Initial Setup)—1.

Recordkeeping (Ongoing)—21.

Recordkeeping (Ongoing quarterly)—21.

Disclosure (Initial setup)—1.

Disclosure (Ongoing)—21.

Disclosure (Ongoing quarterly)—21.

Disclosure (Ongoing quarterly Table 13)—27.

Estimated average hours per response:

Minimum Capital Ratios

Recordkeeping (Ongoing)—16.

Standardized Approach

Reporting (Ongoing)—1.

Recordkeeping (Initial Setup)—122.

Recordkeeping (Ongoing)—20.

Disclosure (Initial Setup)—226.25.

Disclosure (Ongoing)—131.25.

Advanced Approach

Reporting (Initial Setup)—161.

Reporting (Ongoing)—111.77.

Recordkeeping (Initial Setup)—299.

Recordkeeping (Ongoing)—429.

Recordkeeping (Ongoing quarterly)—20.

Disclosure (Initial setup)—328.

Disclosure (Ongoing)—5.78.

Disclosure (Ongoing quarterly)—41.5.

Disclosure (Ongoing quarterly Table 13)—5.

Total estimated change in burden: 34 hours.

Total estimated annual burden hours: 76,250.²

² More detailed information regarding this collection, including more detailed burden estimates, can be found in the OMB Supporting Statement posted at https://www.federalreserve.gov/apps/reportingforms/home/review. On the page displayed at the link, you can find the OMB Supporting Statement by referencing the collection identifier, FR Q.

Current actions: On November 4, 2022, the Board published a notice in the Federal Register (87 FR 66701) requesting public comment for 60 days on the extension, with revision, of the FR Q. The Board proposed to revise the FR Q information collection to account for a reporting provision in section 217.37(c)(4)(i)(E) of Regulation Q and a disclosure provision in section 217.124(a) of Regulation Q, which have not been previously cleared by the Board under the PRA. The comment period for this notice expired on January 3, 2023. The Board did not receive any comments. The revisions will be implemented as proposed.

Board of Governors of the Federal Reserve System, February 23, 2023.
Michele Taylor Fennell,
Deputy Associate Secretary of the Board.

[FR Doc. 2023-04138 Filed 2-28-23; 8:45 am]

BILLING CODE 6210-01-P